FEDERAL COMMUNICATIONS COMMISSION

Notice of Public Information Collection(s) Being Reviewed by the Federal Communications Commission

June 5, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 16, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-0331.

Title: Section 76.1803 Aeronautical frequencies: signal list, Section 76.1804 Aeronautical frequencies: leakage monitoring.

Form No.: N/A.

Type of Review: Extension of currently approved collection.

Respondents: Business or other for-profit.

Number of Respondents: 1,200.

Estimated Time Per Response: .5 hour.

Frequency of Response: On occasion reporting requirement.

Total Annual Burden: 600 hours.

Total Annual Cost: $54,000.

Needs and Uses: The notifications are used by the Commission to locate and eliminate harmful interference as it occurs, to help assure safe operation of aeronautical and marine radio services and to minimize the possibility of interference to these safety-of-life services.

OMB Control No.: 3060-0685.

Title: Annual Updating of Maximum Permitted Rates for Regulated Cable Services.

Form No.: FCC Form 1240.

Type of Review: Extension of currently approved collection.

Respondents: Business or other for-profit; state, local or tribal government.

Number of Respondents: 45,000.

Estimated Time Per Response: 1 hour.

Frequency of Response: Annual reporting requirement.

Total Annual Burden: 47,250 hours.

Total Annual Cost: $1,125,000.

Needs and Uses: This form is filed by cable operators seeking to adjust maximum permitted rates for regulated cable services to reflect changes in external costs. The Commission uses the FCC Form 1240 to adjudicate permitted rates for regulated cable rates, services and equipment and for the addition and/or deletion of channels, and for the allowance for pass through of external costs due to inflation.

Federal Communications Commission.
Magalie Roman Salas,
Secretary.

[FR Doc. 01-15126 Filed 6-14-01; 8:45 am]

BILLING CODE 6712-01-P